DEPARTMENT OF ENERGY

Federal Energy Regulatory Commission

[Docket No. RP04-100-000]

Puget Sound Energy, Inc.; Notice of Tariff Filing

December 5, 2003.

Take notice that on December 3, 2003, Puget Sound Energy, Inc. (Puget) tendered for filing as part of its FERC Gas Tariff, Original Volume No. 1, the following tariff sheets, to be effective January 3, 2004:

Second Revised Sheet No. 1

Original Sheet Nos. 95 through 111

Puget states that the purpose of this filing is to incorporate amendments dated May 31, 2002, February 28, 2003 and July 23, 2003 to the Jackson Prairie Gas Storage Project Agreement dated January 15, 1998, in order to reflect the administrative and operational procedures pertaining to implementation of the phased storage capacity expansion of Jackson Prairie Gas Storage Project approved in Docket No. CP02-384-000 and to reflect the interim storage capacity and storage service rights resulting from the completion of the first phase of the authorized storage capacity expansion.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00538 Filed 12-11-03; 8:45 am]

BILLING CODE 6717-01-P